DEPARTMENT OF TRANSPORTATION

Federal Aviation Administration

Noise Compatibility Program for Lihue Airport, Lihue, Kauai, Hawaii

AGENCY: Federal Aviation Administration, Department of Transportation (DOT).

ACTION: Notice of acceptance of noise exposure maps.

SUMMARY: The Federal Aviation Administration (FAA) announces its determination that the noise exposure maps submitted by the Hawaii Department of Transportation for Lihue Airport are in compliance with applicable statutory and regulatory requirements.

DATES: The effective date of the FAA's determination on the noise exposure maps is March 31, 2023.

FOR FURTHER INFORMATION CONTACT: Kevin Nishimura, Environmental Protection Specialist, 300 Ala Moana Boulevard, Honolulu, Hawaii 96850, Telephone: 808-312-6038.

SUPPLEMENTARY INFORMATION: In accordance with title 49, United States Code (U.S.C.) section 47503 of the Aviation Safety and Noise Abatement Act, an airport operator may submit to the FAA, noise exposure maps (NEMs) depicting non-compatible uses and other information as of the date the map was submitted. 49 U.S.C. 47503 also requires such maps to be developed in consultation with interested and affected parties in the local community, government agencies, and persons using the airport. In accordance with 49 U.S.C. 47504, an airport operator that submits an NEM that the FAA determined complied with statutory and regulatory requirements, may submit for FAA approval, a noise compatibility program (NCP) identifying measures the airport operator has taken or proposes to take to reduce existing non-compatible land uses and prevents the introduction of additional non-compatible uses.

On February 10, 2023, Hawaii Department of Transportation submitted NEMs, descriptions and other supporting documentation for Lihue Airport for FAA's review and acceptance. An NEM must include a description of estimated aircraft operations during a forecast period that is at least five years in the future and how those operations will affect the map and other information. The specific documentation determined to constitute the NEMs includes Exhibit NEM-1, “2019 Existing Condition Noise Exposure Map” and Exhibit NEM-2 and “2027 Forecast Noise Exposure Map”, which addressed the current and forecast NEM graphics requirements and all other narrative, graphic or tabular representations of the data required by appendix A in 14 CFR part 150 and 49 U.S.C. 47503 and 47506.

The FAA completed its review of the NEMs and supporting documentation and determined the NEMs comply with the applicable statutory and regulatory requirements. This determination is effective on March 31, 2023. FAA's determinations for this NEM submitted by Hawaii Department of Transportation is limited to a finding that the maps were developed in accordance with 49 U.S.C. 47503 and the procedures in appendix A of 14 CFR part 150. FAA's determination does not constitute approval of the Hawaii Department of Transportation data, information or plans, or constitute a commitment to approve a noise compatibility program or to fund the implementation of that program. If questions arise concerning the precise relationship of specific properties to noise exposure contours depicted on an NEM it should be noted the FAA is not involved in any way in determining the relative locations of specific properties with regard to the depicted noise contours, or in interpreting the NEMs to resolve questions concerning, for example, which properties should be covered by the provisions of 49 U.S.C. 47506. These functions are inseparable from the land use control and planning responsibilities of local government. These local responsibilities are not changed in any way under 14 CFR part 150 or through FAA's review of NEMs. Therefore, the responsibility for the detailed overlaying of noise exposure contours onto the map depicting properties on the surface rests exclusively with the Hawaii Department of Transportation data that submitted the NEMs or with those public agencies and planning agencies with which consultation is required. The FAA relied on the certification by the Hawaii Department of Transportation this required consultation has been accomplished per 14 CFR 150.21 and 49 U.S.C. 47503.

Copies of the full noise exposure map documentation and of the FAA's evaluation of the maps are available for examination at the following locations:

Federal Aviation Administration, Honolulu Airports District Office, 300 Ala Moana Boulevard, Room 7-128, Honolulu, Hawaii, 96850.

The Hawaii Department of Transportation has also made a hard copy of the document available for review at:

Mr. Herman Tuiolosega, Planner, Hawaii Department of Transportation—Airports Engineering Branch, 400 Rodgers Boulevard, 7th Floor, Honolulu, Hawaii 96819

Mr. Craig Davis, Airport Manager, Lihue Airport, 3901 Mokulele Loop, Lihue, Hawaii 96766

Questions may be directed to the individual named above under the heading FOR FURTHER INFORMATION CONTACT.

Issued in El Segundo, California, on March 31, 2023.
Mark A. McClardy,
Director, Airports Division, Western-Pacific Region, AWP-600.

[FR Doc. 2023-07171 Filed 4-5-23; 8:45 am]

BILLING CODE 4910-13-P